DEPARTMENT OF COMMERCE

International Trade Administration

[A-485-803]

Notice of Extension of Time Limit for the Preliminary Results of the Antidumping Duty Administrative Review: Cut-to-Length Carbon Steel Plate From Romania

AGENCY: Import Administration, International Trade Administration, Department of Commerce.

SUMMARY: The Department of Commerce (the Department) is extending the time limits for the preliminary results of the 2002-2003 administrative review of the antidumping duty order on cut-to-length carbon steel plate from Romania. This review covers one manufacturer/exporter of the subject merchandise to the United States and the period August 1, 2002 through July 31, 2003.

EFFECTIVE DATE: March 11, 2004.

FOR FURTHER INFORMATION CONTACT: Thomas Killiam at (202) 482-5222, Michael Heaney at (202) 482-4475, or Robert James at (202) 482-0649, Antidumping and Countervailing Duty Enforcement Group III, Office Eight, Import Administration, International Trade Administration, U.S. Department of Commerce, 14th Street and Constitution Avenue NW., Washington, DC 20230.

Statutory Time Limits: Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background: On September 30, 2003, in response to a request from the petitioners, International Steel Group, we published a notice of initiation of this administrative review in the Federal Register. See Initiation of Antidumping and Countervailing Duty Administrative Reviews and Requests for Revocation in Part and Deferral of Administrative Review, 68 FR 56262 (September 30, 2003). Pursuant to the time limits for administrative reviews set forth in section 751(a)(3)(A) of the Tariff Act of 1930, as amended (the Tariff Act), the current deadlines are May 2, 2004 for the preliminary results and August 30, 2004, for the final results.

Extension of Time Limit for Preliminary Results of Review: It is not practicable to complete this review within the normal statutory time limit due to a number of significant case issues, such as, the collection of surrogate market values, the reporting and analysis of both non-market economy and market economy data for different parts of the twelve-month review period, and complex cost data. Therefore, the Department is extending the time limits for completion of the preliminary results by 120 days, until August 30, 2004, in accordance with section 751(a)(3)(A) of the Tariff Act. The deadline for the final results of this review will continue to be 120 days after publication of the preliminary results.

This extension is in accordance with section 751(a)(3)(A) of the Tariff Act.

Dated: March 3, 2004.
Joseph A. Spetrini,
Deputy Assistant Secretary for Import Administration, Group III.

[FR Doc. 04-5543 Filed 3-10-04; 8:45 am]

BILLING CODE 3510-DS-P